DEPARTMENT OF HEALTH AND HUMAN SERVICES

Notice of Meeting of the Advisory Committee on Blood Safety and Availability

AGENCY: Office of the Secretary, HHS.

ACTION: Notice of meeting.

SUMMARY: The Advisory Committee on Blood Safety and Availability will meet to examine the question; what is the optimal practice of medicine in the donor room setting. The meeting will be entirely open to the public.

DATES: The Advisory Committee on Blood Safety and Availability will meet on Wednesday, April 7 and Thursday, April 8, 2004 from 8 a.m. to 5 p.m.

ADDRESSES: The meeting will take place at the Grand Hyatt Washington Hotel, 1000 H Street, NW., Washington, DC 20001.

FOR FURTHER INFORMATION CONTACT: Jerry A. Holmberg, Executive Secretary, Advisory Committee on Blood Safety and Availability, Department of Health and Human Services, Office of Public Health and Science, 1101 Wootton Parkway, Suite 250, Rockville, MD 20852, (301) 443-2331, FAX (301) 443-4788, e-mail jholmberg@osophs.dhhs.gov.

SUPPLEMENTARY INFORMATION: Public comment will be solicited at the meeting. Public comment will be limited to five minutes per speaker. Those who wish to have printed material distributed to Advisory Committee members should submit thirty (30) copies to the Executive Secretary prior to close of business March 31, 2004. Those who wish to utilize electronic data projection in their presentation to the Committee must submit their material to the Executive Secretary prior to close of business March 31, 2004. In addition, anyone planning to comment is encouraged to contact the Executive Secretary at her/his earliest convenience.

Dated: February 18, 2004.
Jerry A. Holmberg,
Executive Secretary, Advisory Committee on Blood Safety and Availability.

[FR Doc. 04-4038 Filed 2-24-04; 8:45 am]

BILLING CODE 4150-28-P